DEPARTMENT OF THE INTERIOR

Fish and Wildlife Service

Notice of Intent To Revise a Comprehensive Conservation Plan and Associated Environmental Impact Statement for the Tetlin National Wildlife Refuge, Tok, AK

AGENCY: Fish and Wildlife Service, Department of the Interior.

ACTION: Notice of intent.

SUMMARY: The notice advises the public that the U.S. Fish and Wildlife Service (Service) intends to gather information necessary to revise the Comprehensive Conservation Plan (Plan) and an associated Environmental Impact Statement, pursuant to the National Environmental Policy Act and its implementing regulations, for Tetlin National Wildlife Refuge, Tok, Alaska. The Service is furnishing this notice in compliance with the National Wildlife Refuge System Administration Act of 1966, as amended, and with Service planning policy to administer other agencies and the public of our intentions and to obtain suggestions and information on the scope of issues to be addressed in the environmental document.

Special mailings, newspaper articles, and other media announcements will inform people of opportunities to provide written and oral input throughout the planning process. Public meetings will be held in communities near the Refuge (Tok, Northway, Tetlin, and Tanacross) and in the city of Fairbanks. The Draft and Final Plans and associated Environmental Impact Statement will be available for viewing and downloading at http://alaska.fws.gov/nwr/planning.

ADDRESSES: Address comments, questions, and requests to Mikel Haase, Planning Team Leader, U.S. Fish and Wildlife Service, 1011 East Tudor Rd., MS-231, Anchorage, AK 99503, or fw7_tetlin_planning@fws.gov.

FOR FURTHER INFORMATION CONTACT: Mikel Haase, Planning Team Leader, U.S. Fish and Wildlife Service, 1011 East Tudor Rd., MS-231, Anchorage, AK 99503, phone number (907) 786-3402 or fw7_tetlin_planning@fws.gov. Additional information concerning Tetlin Refuge and the Conservation Plan can be found at http://alaska.fws.gov/nwr.

SUPPLEMENTARY INFORMATION: By Federal law (National Wildlife Refuge System Administration Act of 1966, as amended by the National Wildlife Refuge System Improvement Act of 1997 (16 U.S.C. 668dd-668ee)), all lands within the National Wildlife Refuge System are to be managed in accordance with an approved Comprehensive Conservation Plan. Section 304(g) of the Alaska National Interest Lands Conservation Act (16 U.S.C. 140hh-3233, 43 U.S.C. 1602-1784) also directs that these plans be prepared. The Plan guides management decisions and identifies goals, long-term objectives, and strategies for achieving the purposes of the Refuge. During the planning process, the planning team reviews a wide range of refuge administrative requirements, including conservation of the Refuge's fish and wildlife populations and habitats in their natural diversity; facilitation of subsistence use by local residents and access for traditional activities; and conservation of resource values, including cultural resources, wilderness, and wild rivers. The final revised Plan will detail the programs, activities, and measures necessary to best administer the Refuge to protect these values and to fulfill the purposes of the Refuge. The Comprehensive Conservation Plan and associated Environmental Impact Statement will describe and evaluate a range of reasonable alternatives and the anticipated impacts of each. Public input into the planning process is essential.

The plan will provide other agencies and the public with information to facilitate understanding of the desired conditions for the Refuge and how the Service will implement management strategies.

The Service will prepare an Environmental Impact Statement in accordance with procedures for implementing the National Environmental Policy Act of 1969 (42 U.S.C. 4321-4370d).

The Tetlin National Wildlife Refuge covers approximately seven hundred thousand acres. It is located northeast of the Alaska Range, adjacent to the U.S.-Canada border in the headwaters of the Tanana River. It is bordered to the south by Wrangell-St. Elias National Park and Preserve, Canada to the east, and the Alaska Highway along its northeast border.

The Refuge lies within the Nabesna/Chisana River Basin, in the Upper Tanana Valley. Formed by repeated glaciations, this large, flat basin is filled with sediments deposited in moraines and outwash plains, creating a landscape dominated by lakes, ponds, and wetland tundra. Most of the Refuge is rolling lowlands, however the Mentasta Mountains, in the southwest corner, are rugged, glacier carved peaks reaching elevations of 8,000 feet.

The vegetation is a complex mixture of spruce forests, mixed woodlands, shrub lands, and tussock peatlands that are heavily interspersed with wetlands and streams. The landscape provides valuable habitat for a wide variety of fish and wildlife species. Fourteen fish species, nearly 200 bird species, 44 mammal species, and 1 amphibian species are believed to use the Refuge for at least part of each year. The Tetlin Refuge is one of the most diverse interior refuges in Alaska. The Tanana Basin represents the northern extent of the range for many species found in other parts of North America. A number of species which use the Tetlin Refuge are not found in other Alaska Refuges.

The wetlands provide exceptional nesting habitat for many species including 18 species of ducks. Large numbers of tundra and trumpeter swans use the Refuge during migration. The Refuge also has a rapidly expanding breeding population of trumpeter swans.

Caribou, moose, and Dall's sheep are the large herbivores found on the Refuge. Caribou and moose are found seasonally throughout Tetlin Refuge. Dall's sheep are limited to the rugged Mentasta Mountains in the southwest corner. Both black and brown bears occur on the Refuge.

The Alaska National Interests Land Conservation Act of 1980 (Section 302(8)(B)) sets forth the following major purposes for which Tetlin Refuge was established and is to be managed:

(i) To conserve fish and wildlife populations and habitats in their natural diversity including, but not limited to, waterfowl, raptors and other migratory birds, furbearers, moose, caribou (including participation in cooperative ecological studies and management of the Chisana caribou herd), salmon and Dolly Varden;

(ii) To fulfill the international treaty obligations of the United States with respect to fish and wildlife and their habitats;

(iii) To provide, in a manner consistent with the purposes set forth in subparagraphs (i) and (ii) the opportunity for continued subsistence uses by local residents;

(iv) To ensure, to the maximum extent practicable and in a manner consistent with the purposes set forth in paragraph (i), water quality and necessary water quantity with the refuge; and

(v) To provide, in a manner consistent with subparagraphs (i) and (ii) opportunities for interpretation and environmental education, particularly in conjunction with any adjacent State visitor facilities.

The Comprehensive Conservation Plan for Tetlin National Wildlife Refuge was completed in 1987. It is being revised consistent with section 304(g) of the Alaska National Interest Lands Conservation Act, the National Wildlife Refuge System Improvement Act of 1997, and U.S. Fish and Wildlife Service planning policy.

Dated: November 22, 2004.
Rowan Gould,
Regional Director, U.S. Fish and Wildlife Service, Anchorage, Alaska.

[FR Doc. 04-26784 Filed 12-6-04; 8:45 am]

BILLING CODE 4310-55-M